DEPARTMENT OF DEFENSE

Department of the Army, Corps of Engineers

Notice of Intent To Prepare a Draft Supplemental Environmental Impact Statement/Environmental Impact Report for the Sacramento Weir Component (Yolo County, California) of the American River Watershed Common Features Project, as Authorized Under the Water Resources Development Act of 2016

AGENCY: Department of the Army, U.S. Army Corps of Engineers, DoD.

ACTION: Notice of intent.

SUMMARY: The U.S. Army Corps of Engineers (USACE), Sacramento District, and the Central Valley Flood Protection Board is preparing a Draft Supplemental Environmental Impact Statement/Environmental Impact Report (Draft Supplemental EIS/EIR) for the Sacramento Weir widening component of the American River Watershed Common Features (ARCF) Levee Improvement Project authorized by the Water Resources Development Act of 2016. This Draft Supplemental EIS/EIR supplements the ARCF General Reevaluation Report (GRR) Final EIS/EIR. The Proposed Action includes constructing a 1,500-foot-long passive weir, with associated levee, roadway, rail bridge, and fish passage improvements adjacent to the existing Sacramento Weir at the junction of the Sacramento River and Sacramento Bypass. Conceptual components of the Proposed Action were analyzed in the ARCF GRR Final EIS/EIR but some elements of the Proposed Action (passive weir design and fish passage structure) were not analyzed in the ARCF GRR Final EIS/EIR because final designs are still in progress. USACE has now developed two alternative project designs in sufficient detail to analyze their environmental effects: A passive weir structure with a crest elevation at 26 feet on the North American Vertical Datum of 1988 (NAVD88) (the Proposed Action), and a passive weir structure with a crest elevation at 26 feet NAVD88, with stop logs to raise the crest elevation to 29.8 feet NAVD88 (the Higher Weir Elevation Alternative). Both design alternatives would reduce the flood risk in and around the cities of Sacramento and West Sacramento by conveying additional Sacramento River flow during flood events into the Sacramento and Yolo Bypasses.

DATES: Written comments regarding the scope of the environmental analysis should be received by April 20, 2020.

ADDRESSES: Please send written comments concerning the Draft Supplemental EIS/EIR to Mr. Robert Chase, U.S. Army Corps of Engineers, Sacramento District, Attn: Planning Division (CESPK-PDR), 1325 J Street, Sacramento, CA 95814. Requests to be added to the mailing list should also be sent to this address.

FOR FURTHER INFORMATION CONTACT: Questions about the Proposed Action and EIS/EIR should be addressed to Robert Chase at (916) 557-7630, Robert.D.Chase@usace.army.mil, or by mail (1325 J Street, Sacramento, CA 95814).

SUPPLEMENTARY INFORMATION:

a. Proposed Action: USACE is preparing a Supplemental Environmental Impact Statement (SEIS)/Supplemental Environmental Impact Report (SEIR) to analyze environmental impacts of the authorized Sacramento Weir Widening component of the larger ARCF 2016 levee improvement project. The Proposed Action includes a passive weir with a sill elevation of 26 feet above the North American Vertical Datum of 1988 (NAVD88).

b. Alternatives. In addition to the Proposed Action, the supplemental EIS will address two alternatives. One alternative would affix horizontal stop logs to the top of the passive weir sill, with a top elevation of 29.2 feet NAVD88, similar to the elevation of the top of the gates of the existing Sacramento Weir. The other alternative is the required No Action Alternative.

c. Scoping Process.

1. USACE will seek comments on the draft SEIS/SEIR from concerned individuals and local, State, and Federal agencies. A public scoping meeting will be held in the form of a teleconference and/or webinar in April 2020. Exact date, time, registration details, additional information, and any schedule changes will be announced online at: http://www.sacleveeupgrades.com.

2. Significant topics analyzed in the SEIS include anticipated project effects on visual resources, air quality, vegetation and wildlife, special-status plants and terrestrial wildlife species, fisheries, climate change, cultural resources, geological resources, hazardous wastes and materials, hydrology and hydraulics, water quality and groundwater resources, noise, recreation, transportation and circulation, and public utilities and service systems; and cumulative effects of related projects in the study area.

3. USACE is consulting with the State Historic Preservation Officer to comply with the National Historic Preservation Act, and the National Marine Fisheries Service and the U.S. Fish and Wildlife Service to comply with the Endangered Species Act.

4. After publication of the draft SEIS a 45-day public review period will be provided for individuals and agencies to review and comment on the draft document. Interested parties are encouraged to respond to this notice and provide a current address if they wish to be notified of the draft SEIS circulation.

d. Availability. The draft SEIS/SEIR is scheduled to be available for public review and comment by approximately May 12, 2020.

Kimberly M. Colloton,
Brigadier General, U.S. Army, Commanding.

[FR Doc. 2020-06812 Filed 3-31-20; 8:45 am]

BILLING CODE 3720-58-P